DEPARTMENT OF DEFENSE

Department of the Air Force

[Docket ID: USAF-2014-0006]

Proposed Collection; Comment Request

AGENCY: Department of the Air Force, DoD.

ACTION: Notice.

SUMMARY: In compliance with Section 3506(c)(2)(A) of the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 9, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Headquarters (HQ) Air Mobility Command (AMC), Mobility Air Forces (MAF) Programs Division, In-Transit Visibility (ITV)/Business Systems, Global Air Transportation Execution System (GATES) (HQ AMC/A6IB), ATTN: Mr. Cedric Mitchell, Scott AFB IL 62225-5223, or call HQ AMC/A6IB GATES Program Manager, at 618-256-6729.

SUPPLEMENTARY INFORMATION: Title; Associated Form; And OMB Number: Global Air Transportation Execution System; OMB Control Number 0701-XXXX.

Needs And Uses: The information collection requirement is necessary to develop billing data for use by the user Military Services or other organizations; manifest human remains; determine passenger movement trends; forecast future travel requirements; identify, research, and resolve transportation-related problems; notify foreign countries of personnel and equipment arrivals; manifest passengers; screen passengers for customs, immigration, and transportation security purposes; and, manifest and create records relating to the transportation of personal property and human remains.

Affected Public: General public, Federal personnel and or Federal contractors.

Annual Burden Hours: 15,382.

Number of Respondents: 184,589.

Responses per Respondent: 1.

Total Annual Responses: 184,589.

Average Burden Per Response: 5 minutes.

Frequency: On Occasion.

Respondents are general public, Federal personnel and contractors who request aircraft transportation. The request is accomplished in the GATES software application which notifies the appropriate agencies for transportation approval. The information is maintained in the GATES database until the request is processed and then is archived to a historical database forever. If the not provided the individual will be denied access to board an aircraft for transportation. Federal law requires the passenger screening process for all personnel boarding an aircraft.

Dated: April 3, 2014.
Aaron Siegel,
Alternate OSD Federal Register Liaison Officer, Department of Defense.

[FR Doc. 2014-07827 Filed 4-7-14; 8:45 am]

BILLING CODE 5001-05-P